DEPARTMENT OF HOUSING AND URBAN DEVELOPMENT

[Docket No. FR-7107-N-03; OMB Control No.: 2577-0290]

30-Day Notice of Proposed Information Collection: Public Housing Flat Rent Exception Request Market Analysis

ACTION: Notice.

SUMMARY: HUD is seeking approval from the Office of Management and Budget (OMB) for the information collection described below. In accordance with the Paperwork Reduction Act, HUD is requesting comments from all interested parties on the proposed collection of information. The purpose of this notice is to allow for 30 days of public comment.

DATES: Comments Due Date: March 2, 2026.

ADDRESSES: Interested persons are invited to submit comments regarding this proposal. Written comments and recommendations for the proposed information collection should be sent within 30 days of publication of this notice to www.reginfo.gov/public/do/PRAMain. Find this particular information collection by selecting “Currently under 30-day Review—Open for Public Comments” or by using the search function.

FOR FURTHER INFORMATION CONTACT: Anna Guido, PRA Compliance Officer, Paperwork Reduction Act Division, PRAD, Department of Housing and Urban Development, 451 7th Street SW, Room 8210, Washington, DC 20410; email at PaperworkReductionActOffice@hud.gov, ATTN: telephone (202) 402-5535. This is not a toll-free number. HUD welcomes and is prepared to receive calls on individuals who are deaf or hard of hearing, as well as individuals with speech or communication disabilities. To learn more about how to make an accessible telephone call, please visit https://www.fcc.gov/consumers/guides/telecommunications-relay-service-trs.

Copies of available documents submitted to OMB may be obtained from Ms. Guido.

SUPPLEMENTARY INFORMATION: This notice informs the public that HUD is seeking approval from OMB for the information collection described in Section A. The Federal Register notice that solicited public comment on the information collection for a period of 60 days was published on September 15, 2025 at 90 FR 44387.

A. Overview of Information Collection

Title of Information Collection: Public Housing Flat Rent Exception Request Market Analysis.

OMB Approval Number: 2577-0290.

Type of Request: Extension.

Form Number: HUD-5880.

Description of the need for the information and proposed use: Form HUD-5880 streamlines the process and reduces burden on PHAs when submitting a market analysis as part of a flat rent exception request in accordance with Notice PIH 2022-33(HA), which implements Section 238 of Title II of Public Law 113-235, the Department of Housing and Urban Development Appropriations Act of 2015. Notice PIH 2022-33(HA) allows PHAs to request flat rents that are based on the local rental market conditions, when the PHA can demonstrate through a market analysis that the Fair Market Rents (FMRs) are not reflective of the local market. This version of the form has been in use since FY2023. HUD is adjusting the average number of respondents and hourly cost per response to reflect the average level of submissions in FY2023, FY2024, and FY2025 and higher wage estimates from the Occupational Employment and Wage Statistics, but HUD is not proposing any changes to the form being renewed.

Information collection | Number of respondents | Frequency of response | Responses per annum | Burden hour per response | Annual burden hours | Hourly cost per response | Annual cost
HUD-5880—Flat Rent Market Analysis | 57 | 1 | 57 | 8 | 456 | $28.06 | $12,795.36
Total | 57 | 1 | 57 | 8 | 456 | 28.06 | 12,795.36

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 2 of the Paperwork Reduction Act of 1995, 44 U.S.C. 3507.

Anna Guido,
Department PRA Compliance Officer, Office of Policy Development and Research, Chief Data Officer.

[FR Doc. 2026-01869 Filed 1-29-26; 8:45 am]

BILLING CODE 4210-67-P